DEPARTMENT OF COMMERCE

Foreign-Trade Zones Board

[S-174-2020]

Foreign-Trade Zone 76—Bridgeport, Connecticut; Application for Subzone; ASML US, LLC; Wilton, Connecticut

An application has been submitted to the Foreign-Trade Zones (FTZ) Board by the Bridgeport Port Authority, grantee of FTZ 76, requesting an expansion of Subzone 76A on behalf of ASML US, LLC, in Wilton Connecticut. The application was submitted pursuant to the provisions of the Foreign-Trade Zones Act, as amended (19 U.S.C. 81a-81u), and the regulations of the FTZ Board (15 CFR part 400). It was formally docketed on October 5, 2020.

Subzone 76A currently consists of the following sites: Site 1 (29.23 acres) 71, 73 & 77 Danbury Road, Wilton; Site 2 (3.65 acres) 7 Edmund Road, Newtown; Site 3 (11.78 acres) 59 Danbury Road, Wilton; and, Site 4 (2.68 acres) 7 Francis Clarke Circle, Bethel.

The applicant is requesting authority to expand the subzone to include an additional site: Proposed Site 5 (1.125 acres) 50 Danbury Road, Wilton. No additional authorization for production activity has been requested at this time. The existing subzone and the proposed site would be subject to the existing activation limit of FTZ 76.

In accordance with the FTZ Board's regulations, Elizabeth Whiteman of the FTZ Staff is designated examiner to review the application and make recommendations to the Executive Secretary.

Public comment is invited from interested parties. Submissions shall be addressed to the FTZ Board's Executive Secretary and sent to: ftz@trade.gov. The closing period for their receipt is November 17, 2020. Rebuttal comments in response to material submitted during the foregoing period may be submitted during the subsequent 15-day period to December 2, 2020.

A copy of the application will be available for public inspection in the “Reading Room” section of the FTZ Board's website, which is accessible via www.trade.gov/ftz.

For further information, contact Elizabeth Whiteman at Elizabeth.Whiteman@trade.gov or (202) 482-0473.

Dated: October 5, 2020.
Andrew McGilvray,
Executive Secretary.

[FR Doc. 2020-22317 Filed 10-7-20; 8:45 am]

BILLING CODE 3510-DS-P